DEPARTMENT OF LABOR

Employment and Training Administration

Public Meeting of the Advisory Committee on Apprenticeship (ACA)

AGENCY: Employment and Training Administration, Labor.

ACTION: Notice of an open ACA meeting.

SUMMARY: Pursuant to section 10 of the Federal Advisory Committee Act (Pub. L. 92-463; 5 U.S.C. APP. 1), notice is hereby given of an open meeting of the Advisory Committee on Apprenticeship (ACA).

Time and Date: The meeting will begin at approximately 8:30 a.m. on Wednesday, December 12, 2007, and continue until approximately 5 p.m. The meeting will reconvene at approximately 8:30 a.m. on Thursday, December 13, 2007, and adjourn at approximately 5 p.m.

Place: Stanford Court, 905 California Street, Nob Hill, San Francisco, California 94108.

The agenda is subject to change due to time constraints and priority items which may come before the Committee between the time of this publication and the scheduled date of the ACA meeting.

FOR FURTHER INFORMATION CONTACT: Mr. Anthony Swoope, Administrator, Office of Apprenticeship, Employment and Training Administration (ETA), U.S. Department of Labor, Room N-5311, 200 Constitution Avenue, NW., Washington, DC 20210. Telephone: (202) 693-2796, (this is not a toll-free number).

Matters To Be Considered:

The agenda will focus on the following topics:

• Office of Apprenticeship/ETA Updates.

• Regulatory Update.

• Education and Outreach Initiative—Preliminary Results.

• ETA Training and Employment Guidance Letter No. 2-07.

Status:

Members of the public are invited to attend the proceedings. Individuals with disabilities should contact Ms. Kenya Huckaby at (202) 693-3795 no later than Wednesday, December 5, 2007, if special accommodations are needed.

Any member of the public who wishes to file written data or comments pertaining to the agenda may do so by sending the data or comments to Mr. Anthony Swoope, Administrator, Office of Apprenticeship, U.S. Department of Labor, Room N-5311, 200 Constitution Avenue NW., Washington, DC 20210. Such submissions should be sent by Wednesday, December 5, 2007, to be included in the record for the meeting.

Any member of the public who wishes to speak at the meeting should indicate the nature of the intended presentation and the amount of time needed by furnishing a written statement to the Designated Federal Official, Mr. Anthony Swoope, by Wednesday, December 5, 2007. The Chairperson will announce at the beginning of the meeting the extent to which time will permit the granting of such requests.

Signed at Washington, DC, this 6th day of November 2007.
Emily Stover DeRocco,
Assistant Secretary for Employment and Training Administration.

[FR Doc. E7-22130 Filed 11-13-07; 8:45 am]

BILLING CODE 4510-FR-P